DEPARTMENT OF LABOR

Occupational Safety and Health Administration

[Docket No. OSHA-2011-0124]

Advisory Committee on Construction Safety and Health (ACCSH)

AGENCY: Occupational Safety and Health Administration (OSHA), Labor.

ACTION: Request for nominations of members to serve on ACCSH.

SUMMARY: OSHA invites interested persons to submit nominations for membership on ACCSH.

DATES: Nominations for ACCSH must be submitted (postmarked, sent, transmitted, or received) by January 23, 2012.

ADDRESSES: You may submit nominations and supporting materials by one of the following methods:

Electronically: You may submit nominations, including attachments, electronically at http://www.regulations.gov, the Federal e-Rulemaking Portal. Follow the online instructions for submitting nominations;

Facsimile: If your nomination and supporting materials, including attachments, do not exceed 10 pages, you may fax them to the OSHA Docket Office at (202) 693-1648;

Mail, express delivery, hand delivery, and messenger or courier service: You may submit nominations and supporting materials to the OSHA Docket Office, Docket No. OSHA-2011-0124, Room N-2625, U.S. Department of Labor, 200 Constitution Avenue NW., Washington, DC 20210; telephone (202) 693-2350 (TTY number (877) 889-5627). Deliveries by hand, express mail, messenger, and courier service are accepted during the Department of Labor's and OSHA Docket Office's normal business hours, 8:15 a.m.-4:45 p.m., e.t.

Instructions: All nominations and supporting materials must include the agency name and docket number for this Federal Register notice (Docket No. OSHA-2011-0124). Because of security-related procedures, submitting nominations by regular mail may result in a significant delay in their receipt. Please contact the OSHA Docket Office for information about security procedures for submitting nominations by hand delivery, express delivery, and messenger or courier service. For additional information on submitting nominations, see the “Public Participation” heading in the SUPPLEMENTARY INFORMATION section below.

OSHA will post submissions in response to this Federal Register notice, including personal information provided, without change at http://www.regulations.gov. Therefore, OSHA cautions interested parties about submitting personal information such as Social Security numbers and birthdates.

Docket: To read or download submissions in response to this Federal Register notice, go to Docket No. OSHA-2011-0124 at http://www.regulations.gov. All documents in the docket are available in the http://www.regulations.gov index; however, some documents (e.g., copyrighted material) are not publicly available to read or download through that Web page. All submissions, including copyrighted material, are available for inspection and copying at the OSHA Docket Office.

For Additional Information

For press inquiries: Mr. Frank Meilinger, OSHA, Office of Communications, Room N-3647, U.S. Department of Labor, 200 Constitution Avenue NW., Washington, DC 20210; telephone (202) 693-1999, email address meilinger.francis2@dol.gov.

For general information: Mr. Francis Dougherty, OSHA, Office of Construction Services, Directorate of Construction, Room N-3468, U.S. Department of Labor, 200 Constitution Avenue NW., Washington, DC 20210; telephone (202) 693-2020; email address dougherty.francis@dol.gov.

SUPPLEMENTARY INFORMATION: The Assistant Secretary of Labor for Occupational Safety and Health invites interested persons to submit nominations for membership on ACCSH.

Background. ACCSH is a continuing advisory committee established under Section 107 of the Contract Work Hours and Safety Standards Act (Construction Safety Act (CSA))(40 U.S.C. 3704(d)(4)), to advise the Secretary of Labor (Secretary) in formulating construction safety and health standards, as well as on policy matters arising under the CSA and the Occupational Safety and Health Act of 1970 (OSH Act)(29 U.S.C. 651 et seq.). In particular, 29 CFR 1911.10(a) and 1912.3(a) provide that the Assistant Secretary shall consult with ACCSH whenever the Agency proposes any occupational safety or health standard that affects the construction industry.

ACCSH operates in accordance with the CSA, the OSH Act, the Federal Advisory Committee Act (FACA) (5 U.S.C. App. 2), and regulations issued pursuant to those statutes (29 CFR parts 1911 and 1912, 41 CFR part 102-3). ACCSH generally meets two to four times a year.

ACCSH membership. ACCSH consists of 15 members appointed by the Secretary.

The categories of ACCSH membership, the total number of members in each category, and the number of new members to be appointed in each category, are:

• Five members who are qualified by experience and affiliation to present the viewpoint of employers in the construction industry: three new employer representatives will be appointed;

• Five members who are similarly qualified to present the viewpoint of employees in the construction industry: three new employee representatives will be appointed;

• Two representatives of State safety and health agencies: one new representative will be appointed;

• Two public members, qualified by knowledge and experience to make a useful contribution to the work of ACCSH, such as those who have professional or technical experience and competence with occupational safety and health in the construction industry: one new public representative will be appointed; and

• One representative designated by the Department of Health and Human Services and appointed by the Secretary: no new appointment will be made in this category.

ACCSH members normally serve staggered two-year terms, unless they resign, cease to be qualified, become unable to serve, or are removed by the Secretary (29 CFR 1912.3(e)). At the discretion of the Secretary, a qualified ACCSH member whose term has expired may continue to serve until a successor is appointed (29 CFR 1912.3(i)). The Secretary may appoint ACCSH members to successive terms. No member of ACCSH, other than members who represent employers or employees, shall have an economic interest in any proposed rule that affects the construction industry (29 CFR 1912.6).

The Department of Labor is committed to equal opportunity in the workplace and seeks broad-based and diverse ACCSH membership. Any interested person or organizations may nominate one or more individuals for membership on ACCSH. Interested persons also are invited and encouraged to submit statements in support of particular nominees.

Submission requirements. Nominations must include the following information:

(1) Nominee's contact information and current employment or position;

(2) Nominee's resume or curriculum vitae, including prior membership on ACCSH and other relevant organizations and associations;

(3) Categories of membership (employer, employee, public, State safety and health agency) that the nominee is qualified to represent;

(4) A summary of the background, experience, and qualifications that addresses the nominee's suitability for the nominated membership category;

(5) Articles or other documents the nominee has authored that indicate the nominee's knowledge, experience, and expertise in occupational safety and health, particularly as it pertains to the construction industry; and

(6) A statement that the nominee is aware of the nomination, is willing to regularly attend and participate in ACCSH meetings, and has no conflicts of interest that would preclude membership on ACCSH.

Member selection. The Secretary will select ACCSH members on the basis of their experience, knowledge, and competence in the field of occupational safety and health, particularly in the construction industry. Information, received through this nomination process, and other relevant sources of information, will assist the Secretary in appointing members to ACCSH. In selecting ACCSH members, the Secretary will consider individuals nominated in response to this Federal Register notice, as well as other qualified individuals. OSHA will publish the list of new ACCSH members in the Federal Register.

Public Participation

Instructions for submitting nominations. All nominations, supporting documents, attachments, and other materials must identify the Agency name and the docket number for this notice (Docket No. OSHA-2011-0124). You may submit materials: (1) Electronically, (2) by FAX, or (3) by hard copy. You may supplement electronic submissions by attaching electronic files. Alternatively, if you wish to supplement electronic submissions with hard copy documents, you must submit them to the OSHA Docket Office and clearly identify your electronic submission by Agency name and docket number (Docket No. OSHA-2011-0124) so that the Docket Office can attach the materials to the electronic submission.

Because of security-related procedures, materials submitted by mail may experience significant delays. For information about security procedures concerning the delivery of materials by hand, express delivery, and messenger or courier service, please contact the OSHA Docket Office.

OSHA will post all submissions, including personal information provided, in the docket without change; therefore, OSHA cautions interested parties about submitting personal information such as Social Security numbers and birthdates. Guidance on submitting nominations and supporting materials is available on-line at http://www.regulations.gov and from the OSHA Docket Office.

Access to the docket. All submissions in response to this Federal Register notice are available in the http://www.regulations.gov index; however, some documents (e.g., copyrighted material) are not publicly available to read or download from that Web page. All submissions, including materials not available on-line, are available for inspection and copying at the OSHA Docket Office. For information about accessing materials in Docket No. OSHA-2011-0124, including materials not available on-line, contact the OSHA Docket Office.

Access to this Federal Register notice. Electronic copies of this Federal Register document are available at http://www.regulations.gov. This document, as well as news releases and other relevant information, also are available at OSHA's Web page at http://www.osha.gov.

Authority and Signature

David Michaels, Ph.D., MPH, Assistant Secretary of Labor for Occupational Safety and Health, directed the preparation of this notice under the authority granted by Section 7 of the Occupational Safety and Health Act of 1970 (29 U.S.C. 656), Section 107 of the Contract Work Hours and Safety Standards Act (40 U.S.C. 3704), the Federal Advisory Committee Act (5 U.S.C. App. 2), 29 CFR part 1912, 41 CFR part 102-3, and Secretary of Labor's Order No. 4-2010 (75 FR 55335).

Signed at Washington, DC, this November 17, 2011.
David Michaels,
Assistant Secretary of Labor for Occupational Safety and Health.

[FR Doc. 2011-30194 Filed 11-22-11; 8:45 am]

BILLING CODE 4510-26-P